FEDERAL MARITIME COMMISSION

[Docket No. 10-01]

AMC USA, Inc. v. International First Service S.A. a/k/a IFS S.A, its Agents, Affiliated, Related and Partner Companies, and International First Service Argentina a/k/a AR-IFS, its Agents, Affiliated, Related and Partner Companies, and International First Service USA, Inc. a/k/a IFS USA, Inc. d/b/a Global Wine Logistics USA Inc. a/k/a GWL USA, Inc., and Global Wine Logistics USA Inc. a/k/a GWL USA, Inc., and Anita Mcneil and Ipsen Logistics GmbH; Notice of Complaint and Assignment

Notice is given that a complaint has been filed with the Federal Maritime Commission (“Commission”) by AMC USA, Inc. (“AMC”), hereinafter “Complainant,” against International First Service S.A. a/k/a IFS S.A (“IFS S.A.”); International First Service USA, Inc. a/k/a IFS USA, Inc. (“IFS USA”) d/b/a/Global Wine Logistics USA Inc. a/k/a GWL USA, Inc. (“GWL USA”); Global Wine Logistics USA Inc. a/k/a GWL USA, Inc. (“GWL USA”); Anita McNeil; International First Service Argentina a/k/a AR-IFS (“AR-IFS”); and Ipsen Logistics GmbH (“Ipsen”) ¹, hereinafter “Respondents”. Complainant asserts that it is a licensed non-vessel operating common carrier incorporated in New Jersey and registered in New York. Complainant alleges that Respondent IFS S.A., is an unlicensed non-US-based ocean transportation intermediary/non-vessel operating common carrier. Complainant alleges that Respondents IFS USA and GWL USA, are incorporated in Delaware and are holding themselves out to the public as providers of transportation services, and have assumed responsibility for transportation. Complainant alleges that Respondent ANITA MCNEIL is the President of IFS USA and GWL USA and formerly Executive Vice President of Complainant, AMC. Respondent Ipsen is incorporated in Bremen, Germany and is a partner company to IFS S.A. Respondent AR-IFS., is affiliated with IFS USA and located in Buenos Aires, Argentina.

¹ Respondent Ipsen was not included in the caption block of the complaint as filed, but was listed as a Respondent within the text of the complaint. As such, Respondent Ipsen has been added to the caption in this Notice.

Complainant asserts that Respondents violated the Shipping Act of 1984 by: (1) Failing to keep open to the public in an automated tariff system, tariffs showing all rates, charges, classifications, rules, and practices between all points and ports on its route and on any through transportation that has been established; (2) failing to file with the Commission the service contracts entered into with vessel operating common carriers; (3) engaging in a “willful and deliberate fraudulent scheme to steal customers, employees and proprietary information” from Complainant in order to gain an unfair business advantage and/or in order to provide ocean transportation for property for less than the rates and/or charges that would otherwise have applied; (4) operating under agreements that were required to be filed under the Shipping Act that were not effective under Act; (5) working together to allow parties to obtain transportation for property at less than the rates or charges that would have applied by unjust and unfair means; (6) failing to establish, observe and enforce just and reasonable regulations and practices relating to or connected with receiving, handling, and delivering property; and (7) knowingly and willfully accepting cargo for the account of an ocean transportation intermediary that does not have a tariff and a bond, insurance or other surety. 46 U.S.C. 40501(a), 40502(b)(1), 41102, 41104(1) and 41104(11).² Finally, complainant also alleges that Respondents “acted as ocean transportation intermediaries in the United States without a license” in violation of the Shipping Act and the Commission's regulations. 46 U.S.C. 40901, and 46 CFR 515.3 and 520.

² Complainant cites to “§ 10(b)(2)(11)” which does not exist, but quotes the language contained in § 10(b)(11), 46 U.S.C. 41104(11).

Complainant asserts that as a direct result of Respondent's violations of the Shipping Act, Complainant has had “injury involving customer relations, its reputation in the industry and has been forced to take legal action.” Complainant requests the Commission “deny FMC OTI licenses based upon unsuitable character and violations of the Shipping Act as described herein”; and order Respondents to cease and desist from the above described violations of the Shipping Act.” Complainant requests that the Commission award reparations to Complainant in a sum of no less than $283,918.95, plus reasonable attorney's fees, interests and costs; that Respondents pay any other damages that may be determined proper; and that the Commission impose any other relief as the Commission determines to be proper, fair, and just.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by February 4, 2011 and the final decision of the Commission shall be issued by June 6, 2011.

Karen V. Gregory,
Secretary.

[FR Doc. 2010-2818 Filed 2-8-10; 8:45 am]

BILLING CODE 6730-01-P